DEPARTMENT OF COMMERCE

International Trade Administration

[A-570-905]

Certain Polyester Staple Fiber From the People's Republic of China: Final Results of the Antidumping Duty Administrative Review; 2013-2014

AGENCY: Enforcement and Compliance, International Trade Administration, Department of Commerce.

SUMMARY: The Department of Commerce (the “Department”) has conducted an administrative review of the antidumping duty order on certain polyester staple fiber from the People's Republic of China (“PRC”), for the period of review (“POR”), June 1, 2013, to May 31, 2014. On July 22, 2015, the Department published the preliminary results of this review, and received no comments from interested parties. Therefore, the final results do not differ from the preliminary results. The Department continues to determine that Zhaoqing Tifo New Fibre Co., Ltd. (“Zhaoqing Tifo”) failed to establish its eligibility for a separate rate for the POR, and thus, is a part of the PRC-wide entity, and that Takayasu Industrial (Jiangyin) Co., Ltd. (“Takayasu”) had no reviewable entries during the POR.

DATES: Effective Date: January 27, 2016.

FOR FURTHER INFORMATION CONTACT: Javier Barrientos, AD/CVD Operations, Office V, Enforcement and Compliance, International Trade Administration, Department of Commerce, 14th Street and Constitution Avenue NW., Washington, DC 20230; telephone, 202.482.2243.

SUPPLEMENTARY INFORMATION:

Scope of the Order

The merchandise subject to the order is certain polyester staple fiber. The product is currently classified under the Harmonized Tariff Schedule of the United States (“HTSUS”) numbers 5503.20.0045 and 5503.20.0065. Although the HTSUS numbers are provided for convenience and customs purposes, the written description of the scope of the order remains dispositive.¹

¹ For a full description of the scope, see Decision Memorandum from Christian Marsh, Deputy Assistant Secretary for Antidumping and Countervailing Duty Operations, to Paul Piquado, Assistant Secretary for Enforcement and Compliance, “Preliminary Results of 2013-2014 Antidumping Duty Administrative Review: Certain Polyester Staple Fiber from the People's Republic of China,” dated June 30, 2015 (“Preliminary Decision Memorandum”).

Background

On July 22, 2015, the Department published the Preliminary Results of this administrative review.² On November 17, 2015, we extended the final results to January 18, 2016.³ No party submitted comments on the Preliminary Results.

² See Certain Polyester Staple Fiber from the People's Republic of China: Preliminary Results of the Antidumping Duty Administrative Review; 2013-2014, 80 FR 43392 (July 22, 2015) (“Preliminary Results”).

³ See Memorandum to Christian Marsh, Deputy Assistant Secretary, through James Doyle, Office Director, from Javier Barrientos, Case Analyst, “Polyester Staple Fiber from the People's Republic of China: Extension of Deadline for the Final Results of Antidumping Duty Administrative Review,” dated November 17, 2015.

Final Results of Review

A. Takayasu

As noted in the Preliminary Results, Takayasu submitted a no-shipment letter which stated that it only had one entry of subject merchandise during the POR, which was a sample sale.⁴ For these final results, because the record contains no evidence to the contrary, we continue to find Takayasu's single entry constitutes a sample shipment that lacked consideration, and thus Takayasu did not have any reviewable transactions during the POR.

⁴ See Preliminary Decision Memorandum at 4-5; see also Takayasu's September 29, 2014 submission.

Consistent with the Department's assessment practice in non-market economy (“NME”) cases,⁵ where a respondent has no entries during the period of review, it is appropriate not to rescind the review in part in this circumstance but, rather, to complete the review with respect to that respondent and issue appropriate instructions to CBP based on the final results of the review.⁶ Accordingly, the Department has completed the review with respect to Takayasu and will issue appropriate instructions to CBP based on the final results of the review.⁷ For the final results, we will instruct CBP to liquidate Takayasu's sample entry without regard to antidumping duties.

⁵ See Non-Market Economy Antidumping Proceedings: Assessment of Antidumping Duties, 76 FR 65694 (October 24, 2011) (“NME Reseller Policy”).

⁶ See, e.g., Wooden Bedroom Furniture from the People's Republic of China: Final Results and Final Rescission, In Part, of Administrative Review and Final Results of New Shipper Review; 2013, 80 FR 34619 (June 17, 2015).

⁷ See NME Reseller Policy.

B. Zhaoqing Tifo

As noted in the Preliminary Results, Zhaoqing Tifo did not respond to the antidumping duty questionnaire and failed to establish its eligibility for a separate rate.⁸ As such, consistent with the Department's practice regarding conditional review of the PRC-wide entity,⁹ we determine that Zhaoqing Tifo remains part of the PRC-wide entity. Under this practice, the PRC-wide entity will not be under review unless a party specifically requests, or the Department self-initiates, a review of the entity. Because no party requested a review of the PRC-wide entity, the entity is not under review and the entity's rate is not subject to change. Therefore, for the final results, we will instruct CBP to liquidate Zhaoqing Tifo's entries at the rate previously established for the PRC-wide entity, 44.30 percent.

⁸ See Preliminary Decision Memorandum at 4.

⁹ See Antidumping Proceedings: Announcement of Change in Department Practice for Respondent Selection in Antidumping Duty Proceedings and Conditional Review of the Nonmarket Economy Entity in NME Antidumping Duty Proceedings, 78 FR 65963, 65970 (November 4, 2013).

Assessment Rates

Because Takayasu was found to have no reviewable transactions, and because Zhaoqing Tifo did not respond to the antidumping duty questionnaire, and is thus a part of the PRC-wide entity, we have not calculated any assessment (or cash deposit) rates in this review. The Department intends to issue assessment instructions to CBP 15 days after the publication date of the final results of this review.

Cash Deposit Requirements

The following cash deposit requirements will be effective upon publication of the final results of this review for shipments of the subject merchandise from the PRC entered, or withdrawn from warehouse, for consumption on or after the publication date, as provided by section 751(a)(2)(C) of the Tariff Act of 1930, as amended (the “Act”): (1) For previously investigated or reviewed PRC and non-PRC exporters that received a separate rate in a prior completed segment of this proceeding, the cash deposit rate will continue to be the existing exporter-specific rate; (2) for all PRC exporters of subject merchandise that have not been found to be entitled to a separate rate, the cash deposit rate will be that for the PRC-wide entity, which is 44.30 percent; and (3) for all non-PRC exporters of subject merchandise which have not received their own rate, the cash deposit rate will be the rate applicable to the PRC exporter that supplied that non-PRC exporter.

These deposit requirements, when imposed, shall remain in effect until further notice.

Notification to Importers

This notice also serves as a final reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

These final results are issued and published in accordance with sections 751(a)(1) and 777(i)(1) of the Act.

Dated: January 15, 2016.
Paul Piquado,
Assistant Secretary for Enforcement and Compliance.

[FR Doc. 2016-01646 Filed 1-26-16; 8:45 am]

BILLING CODE 3510-DS-P